DEPARTMENT OF COMMERCE

National Oceanic and Atmospheric Administration

50 CFR Part 648

[Docket No. 040311088-4119-02; I.D. 030104A]

RIN 0648-AQ81

Fisheries of the Northeastern United States; Spiny Dogfish Fishery

AGENCY: National Marine Fisheries Service (NMFS), National Oceanic and Atmospheric Administration (NOAA), Commerce.

ACTION: Final 2004-2005 specifications for the spiny dogfish fishery.

SUMMARY: NMFS announces final specifications for the 2004-2005 spiny dogfish fishery. These measures are specified to rebuild the spiny dogfish resource. The intent of this action is to specify the commercial quota for the spiny dogfish fishery to achieve the annual target fishing mortality rate (F) specified in the Spiny Dogfish Fishery Management Plan (FMP) in order to prevent overfishing of this resource.

DATES: Effective May 27, 2004, through April 30, 2005.

ADDRESSES: Copies of supporting documents used by the Joint Spiny Dogfish Committee and the Spiny Dogfish Monitoring Committee (Monitoring Committee); the Environmental Assessment, Regulatory Impact Review, Initial Regulatory Flexibility Analysis (EA/RIR/IRFA); and the Essential Fish Habitat Assessment (EFHA) are available from Daniel Furlong, Executive Director, Mid-Atlantic Fishery Management Council, Federal Building, Room 2115, 300 South Street, Dover, DE 19904. The EA, RIR, IRFA and EFHA are accessible via the Internet at http://www.nero.nmfs.gov./ro/doc/nero.html.

FOR FURTHER INFORMATION CONTACT: Eric Jay Dolin, Fishery Policy Analyst, (978) 281-9259, fax (978) 281-9135, e-mail eric.dolin@noaa.gov.

SUPPLEMENTARY INFORMATION:

Background

The regulations implementing the Spiny Dogfish FMP at 50 CFR part 648, subpart L, outline the process for specifying annually the commercial quota and other management measures (e.g., minimum or maximum fish sizes, seasons, mesh size restrictions, possession limits, and other gear restrictions) for the spiny dogfish fishery to achieve the annual target fishing mortality rate (F) specified in the FMP. The target F for the 2004-2005 fishing year is not to exceed 0.08.

Proposed 2004-2005 specifications were published on March 18, 2004 (69 FR 12826). Public comments were accepted through April 2, 2004. A full discussion of the process undertaken to develop the annual specifications was provided in the proposed rule and is not repeated here. The final specifications are unchanged from those that were proposed.

Specifications for the 2004 Fishing Year

The commercial spiny dogfish quota of 4 million lb (1.81 million kg) for the 2004-2005 fishing year will be divided into two semi-annual periods as follows: 2,316,000 lb (1,050,512 kg) for quota period 1 (May 1, 2004 - Oct. 31, 2004); and 1,684,000 lb (763,849 kg) for quota period 2 (Nov. 1, 2004 - April 30, 2005). The possession limits will be 600 lb (272 kg) for quota period 1, and 300 lb (136 kg) for quota period 2.

Comments and Responses

Three sets of comments were received from the public. Most of the issues raised in the comments are not germane to the spiny dogfish fishery, and instead focus on broader concerns about fishery management in the United States. The two specific comments that address the spiny dogfish fishery are discussed below.

Comment 1: One commenter wondered if implementing a directed fishery on smaller male spiny dogfish might contribute to the sustainability of the stock, while at the same time “reward[ing] simple gear fisherman like handgear and longline fishermen,” who might be able to target such smaller males.

Response: Although the possibility of having a directed fishery on smaller male spiny dogfish was discussed during the development of the FMP, it is not currently a viable option because there is no market for small males, and there is no gear to select small males over small females.

Comment 2: One commenter argued that the quota should be cut to 1 million lb (453,592 kg) and that the possession limits for both periods should be 100 lb (45 kg).

Response: NMFS is implementing the 4-million lb (1.81-million kg) commercial quota and 600-lb (272-kg)/300-lb (136-kg) possession limits for Quota Period 1 and 2, respectively, consistent with the Monitoring Committee's recommendation to maintain fishing mortality targets and rebuilding objectives of the FMP. The Monitoring Committee did not comment on a lower quota or possession limits because the 4-million lb (1.81-million kg) commercial quota and the 600-lb (272-kg)/300-lb (136-kg) possession limits are consistent with the FMP's fishing mortality target. Any further reduction in landings or possession limits would have to be considered in light of potential increased spiny dogfish discards.

Classification

This rule has been determined to be not significant for purposes of Executive Order 12866.

Included in this final rule is the Final Regulatory Flexibility Analysis (FRFA) prepared pursuant to 5 U.S.C. 604(a). The FRFA incorporates the discussion that follows, the comments and responses to the proposed rule, and the IRFA and other analyses completed in support of this action. A copy of the IRFA is available from the Regional Administrator (see ADDRESSES).

Final Regulatory Flexibility Analysis

Statement of Objective and Need

A description of the reasons why this action is being considered, and the objectives of and legal basis for this action, is contained in the preamble to the proposed rule and is not repeated here.

Summary of Significant Issues Raised in Public Comments

Three comments were submitted on the proposed rule, but none were specific to the IRFA or the economic impacts of this action.

Description and Estimate of Number of Small Entities to Which the Rule Will Apply

All of the affected businesses (fishing vessels) are considered small entities under the standards described in NMFS guidelines because they have gross receipts that do not exceed $3.5 million annually. There were 255 vessels that reported spiny dogfish landings to NMFS in 2002 (the most recent year for which there is vessel-specific data).

Description of Projected Reporting, Recordkeeping, and Other Compliance Requirements

This action does not contain any new collection-of-information, reporting, recordkeeping, or other compliance requirements.

Minimizing Significant Economic Impacts on Small Entities

The annual setting of the specifications is a relatively limited process that focuses on setting a quota and possession limits. The limited nature of this process, in turn, necessarily limits the alternatives available for minimizing significant economic impacts on small entities. Alternatives that were considered to lessen the impacts on small entities are summarized below, and compared to the measures being implemented through these final specifications (Alternative 1).

Alternative 2 evaluates an annual bycatch quota of 4 million lb (1.81 million kg), divided into two semi-annual quota periods for the 2004-2005 fishing year. The quota for period 1 would be 2.316 million lb (1.05 million kg) and for period 2 would be 1.684 million lb (763,849 kg). The possession limits for both quota periods would not exceed 1,500 lb (680 kg). Alternative 3 evaluates an annual 4.4-million lb (2-million kg) quota for the 2004-2005 fishing year, with a 1,500-lb (680-kg) possession limit for both periods. Alternative 4 evaluates the impact of having no management measures (no action).

Under Alternative 2, the potential changes in 2004-2005 revenues under the 4-million lb (1.81-million kg) quota were evaluated relative to landings and revenues derived during 2002-2003: 4.76 million lb (2.2 million kg) of landings, valued at $970,000. The analysis was based on the last full fishing year of landings data and assumed that the revenues of the 255 vessels that landed spiny dogfish in 2002-2003 would be reduced proportionately by the proposed action. The reduction in overall gross revenues to the fishery as a whole was estimated to be about $155,200, or about $609 per vessel, compared to fishing year 2002-2003.

Under Alternative 2, the gross revenue impacts would be similar to impacts anticipated for Alternative 1, since the recommended quotas are identical. The possession limit, however, would increase to 1,500 lb (680 kg). The magnitude of increases in gross revenue associated with the larger possession limit is not known because of limited data. Recent possession limit analyses conducted by the Northeast Fisheries Science Center suggested that trip-level profitability associated with landing spiny dogfish was marginal when 1,500 or fewer pounds (680 kg) of spiny dogfish were retained. As such, an increase from status quo possession limits upward to 1,500 lb (680 kg) may not be expected to increase directed fishing for dogfish or provide significant increases in associated economic benefits. In addition, the ASMFC has enacted the more restrictive possession limits of 600 lb (272 kg) in quota period l and 300 lb (136 kg) in quota period 2. Therefore a higher possession limit in the EEZ would have no effect because vessels could not land spiny dogfish over the ASMFC's more restrictive possession limits.

Under Alternative 3, the quota would be 4.4 million lb (2.2 million kg). This represents a 7.5-percent decrease in landings relative to the landings in 2002-2003. The reduction in overall gross revenues to the fishery as a whole under this alternative was estimated to be about $72,750, or about $285 per vessel, compared to fishing year 2002-2003.

Under Alternative 4, which would implement no management measures, landings are projected to be 25 million lb (11.36 million kg) in 2003-2004. This would constitute a 525- percent increase in fishing opportunity compared to the status quo (4.0 million pounds (1.81 million kg)) and a 425-percent increase in fishing opportunity compared to actual 2002-2003 landings (4.76 million lb (2.2 million kg)). Although the short-term social and economic benefits of an unregulated fishery would be much greater than those associated with Alternatives 1 through 3, fishing mortality would be expected to rise above the threshold level that allows the stock to replace itself (FREP = 0.11) such that stock rebuilding could not occur. In the long term, unregulated harvest would lead to depletion of the spiny dogfish population, which would eventually eliminate the spiny dogfish fishery altogether.

Small Entity Compliance Guide

Section 212 of the Small Business Regulatory Enforcement Fairness Act of 1996 states that, for each rule, or group of related rules, for which an agency is required to prepare a FRFA, the agency shall publish one or more guides to assist small entities in complying with the rule and shall designate such publications as “small entity compliance guides.” The agency shall explain the actions a small entity is required to take to comply with a rule or group of rules. As part of this rulemaking process, a small entity compliance guide will be sent to all holders of permits issued for the spiny dogfish fishery. In addition, copies of this final rule and guide (i.e., permit holder letter) are available from the Regional Administrator (see ADDRESSES) and may be found at the following web site: http://www.nmfs.gov/ro/doc/nero.html.

Authority: 16 U.S.C. 1801 et. seq.

Dated: April 21, 2004.
Rebecca Lent,
Deputy Assistant Administrator for Regulatory Programs, National Marine Fisheries Service.

[FR Doc. 04-9541 Filed 4-26-04; 8:45 am]

BILLING CODE 3510-22-S